ELECTION ASSISTANCE COMMISSION

Sunshine Act Meetings

AGENCY: U.S. Election Assistance Commission.

ACTION: Sunshine Act notice; notice of public roundtable agenda.

SUMMARY: Roundtable discussion: 2020 Elections lessons learned.

DATES: Wednesday, January 27, 2021, 1:30 p.m.-3:30 p.m. Eastern.

ADDRESSES:

Virtual via Zoom

The roundtable discussion is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual roundtable discussion on the lessons learned from the 2020 elections. This event will be the first in a series of virtual events with election officials addressing the challenges and successes of the 2020 primaries and general election.

Agenda: The U.S. Election Assistance Commission (EAC) will hold a roundtable discussion on the lessons learned from the 2020 primaries and general election. This roundtable will include state election officials, who will offer remarks on their experiences as they administered elections throughout the year. Speakers will also answer questions from the EAC Commissioners. This is the kickoff event for a 2020 Elections Lessons Learned. Additional virtual events will be announced in early 2021.

The full agenda will be posted in advance on the EAC website: https://www.eac.gov.

Status: This roundtable discussion will be open to the public.

Amanda Joiner,
Associate Counsel, U.S. Election Assistance Commission.

[FR Doc. 2021-00269 Filed 1-6-21; 4:15 pm]

BILLING CODE P